DEPARTMENT OF TRANSPORTATION

National Highway Traffic Safety Administration

[Docket No. NHTSA-2014-0077; Notice 1]

Automobili Lamborghini SpA, Receipt of Petition for Decision of Inconsequential Noncompliance

AGENCY: National Highway Traffic Safety Administration (NHTSA), Department of Transportation (DOT).

ACTION: Receipt of Petition.

SUMMARY: Automobili Lamborghini SpA (Lamborghini), has determined that certain model year (MY) 2008-2014 Lamborghini Aventador, Gallardo and Muricielago Coupe, Roadster and Spyder model passenger cars do not fully comply with paragraph S4.4(c)(2), of Federal Motor Vehicle Safety Standard (FMVSS) No. 138, Tire Pressure Monitoring Systems. Lamborghini has filed an appropriate report dated May 23, 2014, pursuant to 49 CFR part 573, Defect and Noncompliance Responsibility and Reports.

DATES: The closing date for comments on the petition is July 17, 2015.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: Logging onto the Federal Docket Management System (FDMS) Web site at http://www.regulations.gov/ Follow the online instructions for submitting comments.

Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. Lamborghini's Petition: Pursuant to 49 U.S.C. 30118(d) and 30120(h) and the rule implementing those provisions at 49 CFR part 556, Lamborghini submitted a petition for an exemption from the notification and remedy requirements of 49 U.S.C. Chapter 301 on the basis that this noncompliance is inconsequential to motor vehicle safety.

This notice of receipt of Lamborghini's petition is published under 49 U.S.C. 30118 and 30120 and does not represent any agency decision or other exercise of judgment concerning the merits of the petition.

II. Vehicles Involved: Affected are 690 MY 2012-2014 Lamborghini Aventador Coupe and Roadster model passenger cars manufactured between July 15, 2011 and May 13, 2014; 456 MY 2008-2010 Lamborghini Muricielago Coupe and Roadster model passenger cars manufactured between April 3, 2007 and April 29, 2010; and 2361 Lamborghini Gallardo Coupe and Spyder model passenger cars manufactured between June 14, 2007 and November 20, 2013, for a total of 3507 vehicles.

III. Noncompliance: Lamborghini explains that the Tire Pressure Monitoring System (TPMS) malfunction indicator illuminates as required by FMVSS No. 138 when a malfunction is first detected, however, if the malfunction is caused by an incompatible wheel, when the vehicle ignition is deactivated and then reactivated to the “On” (“Run”) position after a five-minute period, the malfunction indicator does not re-illuminate immediately as required. Lamborghini added, that the malfunction indicator in the subject vehicles will re-illuminate after a maximum of 40 seconds of driving above 23 mph.

Rule Text: Paragraph S4.4(c)(2) of FMVSS No. 138 requires in pertinent part:

S4.4 TPMS Malfunction.

(c) Combination low tire pressure/TPMS malfunction telltale. The vehicle meets the requirements of S4.4(a) when equipped with a combined Low Tire Pressure/TPMS malfunction telltale that:

(2) Flashes for a period of at least 60 seconds but no longer than 90 seconds upon detection of any condition specified in S4.4(a) after the ignition locking system is activated to the “On” (“Run”) position. After each period of prescribed flashing, the telltale must remain continuously illuminated as long as a malfunction exists and the ignition locking system is in the “On” (“Run”) position. This flashing and illumination sequence must be repeated each time the ignition locking system is placed in the “On” (“Run”) position until the situation causing the malfunction has been corrected . . .

V. Summary of Lamborghini's Analyses: Lamborghini stated its belief that the subject noncompliance is inconsequential to motor vehicle safety for the following reasons:

(A) Lamborghini stated that the primary function of the TPMS is not affected by the subject noncompliance and that the vehicle and system will operate as intended. Specifically, the TPMS system properly monitors the tire pressures and properly notifies the driver if the tire pressure falls below the threshold required by the standard. Lamborghini also stated the noncompliance is confined to one particular aspect of the functionality of the malfunction indicator, which itself is otherwise compliant.

(B) Lamborghini mentioned that NHTSA recognized in the TPMS final rule (70 FR 18150, April 8, 2005), “A TPMS malfunction does not itself represent a safety risk to vehicle occupants, and we expect that the chances of having a TPMS malfunction and a significantly under-inflated tire at the same time are unlikely.” Lamborghini responded by saying that if a TPMS malfunction is not considered a safety risk, then ipso facto the limited noncompliance of the malfunction indicator in this case does not present an unreasonable risk to safety.

(C) Lamborghini stated that if the TPMS fails to detect the wheel sensors, the TPMS will in fact display on the TPMS pressures screen within the instrument cluster a “no value” for the tire pressure on the affected tire, indicating that the status of the wheel sensor is unconfirmed. Thus, the driver is still notified of an anomaly.

(D) Lamborghini stated that although the malfunction indicator does not re-illuminate immediately after the vehicle is restarted, it will illuminate shortly thereafter, and in any event it will illuminate in no more than approximately 40 seconds. Lamborghini explained that once a vehicle has started and is moving above 23 mph for a period of 15 seconds the TPMS will seek to confirm the sensors fitted to the vehicle. Lamborghini stated that a wheel without a sensor will be detected within an additional 15-25 seconds, the TPMS malfunction indicator will illuminate correctly, and once the malfunction indicator is illuminated it will remain illuminated throughout that ignition cycle, regardless of the vehicle's speed.

(E) Lamborghini is not aware of any customer complaints, field communications, incidents or injuries related to this condition.

Lamborghini has additionally informed NHTSA that all unsold vehicles in Lamborghini's custody and control will have a reprogramming of the TPMS Electronic Control Unit prior to sale.

In summation, Lamborghini believes that the described noncompliance of the subject vehicles is inconsequential to motor vehicle safety, and that its petition, to exempt Lamborghini from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject motor vehicles that Lamborghini no longer controlled at the time it determined that the noncompliance existed. However, any decision on this petition does not relieve vehicle distributors and dealers of the prohibitions on the sale, offer for sale, or introduction or delivery for introduction into interstate commerce of the noncompliant vehicles under their control after Lamborghini notified them that the subject noncompliance existed.

Authority: (49 U.S.C. 30118, 30120: Delegations of authority at 49 CFR 1.95 and 501.8)

Jeffrey Giuseppe,
Director, Office of Vehicle Safety Compliance.

[FR Doc. 2015-14856 Filed 6-16-15; 8:45 am]

BILLING CODE 4910-59-P